DEPARTMENT OF HOMELAND SECURITY

Coast Guard

33 CFR Part 165

[CGD09-03-287]

RIN 1625-AA11

Regulated Navigation Area; USCG Station Port Huron, Port Huron, Michigan, Lake Huron

AGENCY: Coast Guard, DHS.

ACTION: Notice of proposed rulemaking.

SUMMARY: The Coast Guard is proposing to establish a Regulated Navigation Area (RNA) around the entrance to the moorings for Station Port Huron. These regulations are necessary to manage vessel traffic and ensure the operability of Coast Guard vessels departing Station Port Huron. These regulations are intended to restrict vessels from fishing, mooring and anchoring in a portion of Lake Huron in the vicinity of the United State Coast Guard Station Port Huron.

DATES: Comments and related material must reach the Coast Guard on or before March 15, 2004.

ADDRESSES: You may mail comments and related material to Commander, Marine Safety Compliance Operations Branch (mco), Ninth Coast Guard District, 1240 E. Ninth Street, Cleveland, Ohio 44199-2060, or deliver them to room 2069 at the same address between 9 a.m. and 2 p.m., Monday through Friday, except Federal holidays. The telephone number is (216) 902-6045.

Commander (mco), Ninth Coast Guard District maintains the public docket for this rulemaking. Comments and material received from the public, as well as documents indicated in this preamble as being available in the docket, will become part of this docket and will be available for inspection or copying at the Ninth Coast Guard District, room 2069, between 9 a.m. and 2 p.m., Monday through Friday, except Federal holidays.

FOR FURTHER INFORMATION CONTACT: Lieutenant Commander Jim McLaughlin, Chief, Marine Safety Compliance Operations Branch, Ninth Coast Guard District Marine Safety Division, at (216) 902-6045.

SUPPLEMENTARY INFORMATION:

Request for Comments

We encourage you to participate in this rulemaking by submitting comments and related material. If you do so, please include your name and address, identify the docket number for this rulemaking (CGD09-03-287), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Commander (mco), Ninth Coast Guard District at the address under ADDRESSES explaining why one would be beneficial. If we determine that one would aid this rulemaking, we will hold one at a time and place announced by a later notice in the Federal Register.

Background and Purpose

A large number of recreational fishermen typically fish right off the entrance to the Station Port Huron Moorings. As such, it is typical for fishing line to cross the path of any station vessels exiting the harbor, especially in time-critical emergency situations. During the summer of 2003, on at least 4 occasions, vessels from Station Port Huron were removed from operations due to fishing line being wrapped around their shafts.

In these instances, Station Port Huron's boats were unavailable for search and rescue response during the most active portion of the year, the summer boating season. Having vessels out of service on a regular basis has resulted in a life-threatening situation. Station Port Huron has not been able to rely on having all of their underway assets available on a 24-hour basis, severely effecting time critical mission response.

In addition, due to security concerns it is necessary to prohibit vessels from anchoring or mooring within the RNA. On several occasions, vessels have been discovered inside Station Port Huron's boat basin or anchored so close to the Station's property that crewmembers trespassed upon Federal property upon disembarking the vessel. This routine invasion of the boat basin and Government property is a threat to the security and safety of the station and its crew.

Station Port Huron is situated on the southern end of Lake Huron at the mouth of the St. Clair River. As such, it is a heavily traveled area both for commercial and recreational vessels. Station Port Huron's area of responsibility continues south approximately 13 miles down the St. Clair River and approximately 10 miles north to Port Sanilac, Michigan. Due to the wide geographic area coupled with the extent of vessel traffic, it is critical that all Station vessels be operable at all times and that response times not be hindered.

As such, the Coast Guard is proposing to establish an RNA that would prohibit fishing, mooring and anchoring in the immediate vicinity of the entrance to Station Port Huron's moorings, unless the vessel operator receives advanced approval from the Captain of the Port Detroit. Vessels not engaging in these activities would be allowed to transit this area.

Discussion of Rule

The proposed RNA would encompass the following: starting at the northwest corner at 43°00.4′ N, 082°25.327′ W; east to 43°00.4′ N, 082°25.238′ W; then south to 43°00.3′ N, 082°25.238′ W; then west to 43°00.3′ N, 082°25.327′ W; then following the shoreline north back to the point of origin. These coordinates are based upon North American Datum 1983 (NAD 83).

This proposed RNA would extend approximately 400-feet from shore and be approximately 600-feet in width. Only vessels fishing, mooring or anchoring are prohibited from being within this RNA.

Regulatory Evaluation

This proposed rule is not a “significant regulatory action” under section 3(f) of Executive Order 12866 and does not require an assessment of potential costs and benefits under section 6(a)(3) of the Order. The Office of Management and Budget has not reviewed it under that Order. It is not significant under the regulatory policies and procedures of the Department of Homeland Security.

We expect the economic impact of this proposed rule to be so minimal that a full Regulatory Evaluation under the regulatory policies and procedures of DHS is unnecessary.

This determination is based on the relative small size of the zone and the limited class of vessels restricted from this area, i.e. fishing, mooring or anchoring vessels. In addition, vessels may engage in these activities provided the vessel operator receives prior approval from the Captain of the Port Detroit.

Small Entities

Under the Regulatory Flexibility Act (5 U.S.C. 601-612), we have considered whether this proposed rule would have a significant impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. If you think that your business, organization, or governmental jurisdiction qualifies as a small entity and that this proposed rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects and participate in the rulemaking process. If the rule would affect your small business, organization, or governmental jurisdiction and you have questions concerning its provisions or options for compliance, please contact Commander (mco), Ninth Coast Guard District (see ADDRESSES).

Collection of Information

This proposed rule would call for no new collection of information under the Paperwork Reduction Act of 1995 (44 U.S.C. 3501-3520).

Federalism

We have analyzed this proposed rule under Executive Order 13132 and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

The Coast Guard has analyzed this proposed rule under Executive Order 13045, Protection of Children from Environmental Health Risks and Safety Risks. This rule is not an economically significant rule and does not concern an environmental risk to health or risk to safety that may disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

The Coast Guard has analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this proposed rule and concluded that, under figure 2-1, paragraph 34(g) of Commandant Instruction M16475.1C, this rule is categorically excluded from further environmental documentation. A written categorical exclusion determination is available in the docket for inspection or copying where indicated under ADDRESSES.

List of Subjects in 33 CFR Part 165

Harbors, Marine safety, Navigation (water), Reporting and recordkeeping requirements, Waterways.

For the reasons discussed in the preamble, the Coast Guard proposes to amend 33 CFR Part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. Add § 165.920 to read as follows:

§ 165.920 Regulated Navigation Area: USCG Station Port Huron, Port Huron, MI, Lake Huron.

(a) Regulated Navigation Area. A regulated navigation area is established in Lake Huron encompassed by a line connecting the following points: starting at the northwest corner at 43°00.4′ N, 082°25.327′ W; then east to 43°00.4′ N, 082°25.238′ W; then south to 43°00.3′ N, 082°25.238′ W; then west to 43°00.3′ N, 082°25.327′ W; then following the shoreline north back to the point of origin (NAD 83).

(b) Special regulations. (1) No vessel may fish, anchor, or moor within the RNA without obtaining the advanced approval of the Captain of the Port (COTP) Detroit. COTP Detroit can be reached by telephone at (313) 568-9580, or by writing to: MSO Detroit, 110 Mt. Elliot Ave., Detroit MI 48207-4380.

(2) Vessels not engaging in fishing, anchoring or mooring may transit the RNA.

Dated: December 18, 2003.
Ronald F. Silva,
Rear Admiral, U.S. Coast Guard, Commander, Ninth Coast Guard District.

[FR Doc. 04-913 Filed 1-14-04; 8:45 am]

BILLING CODE 4910-15-P